ARCHITECTURAL AND TRANSPORTATION BARRIERS COMPLIANCE BOARD

Meeting

AGENCY: Architectural and Transportation Barriers Compliance Board.

ACTION: Notice of meeting.

SUMMARY: The Architectural and Transportation Barriers Compliance Board (Access Board) has scheduled its regular business meetings to take place in Washington, DC on Monday, Tuesday, and Wednesday, January 7-9, 2002, at the times and location noted below.

DATES: The schedule of events is as follows:

Monday, January 7, 2002

11 a.m.-Noon. Ad Hoc Committee—Public Rights-of-Way (Closed Meeting).

1:30 p.m.-5 p.m. Ad Hoc Committee—Public Rights-of-Way (Closed Meeting).

Tuesday, January 8, 2002

9:30 a.m.-10:30 a.m. Committee of the Whole—Recreation Facilities Final Rule (Closed Meeting).

10:30 a.m.-Noon. Technical Programs Committee.

1:30 p.m.-5 p.m. Ad Hoc Committee—Passenger Vessels (Closed Meeting).

Wednesday, January 9, 2002

9 a.m.-10:30 a.m. Planning and Budget Committee.

10:30 a.m.-Noon. Executive Committee.

1:30 p.m.-3 p.m. Board Meeting.

ADDRESSES: The meetings will be held at the Marriott at Metro Center Hotel, 775 12th Street, NW, Washington, DC.

FOR FURTHER INFORMATION CONTACT: For further information regarding the meetings, please contact Lawrence W. Roffee, Executive Director, (202) 272-5434, extension 113 (voice) and (202) 272-5449 (TTY).

SUPPLEMENTARY INFORMATION: At the Board meeting, the Access Board will consider the following agenda items.

Open Meeting

• Executive Director's Report.

• Approval of the Minutes of the March 7, and May 9, 2001 Board Meetings.

• Technical Programs Committee: Construction tolerances, and on-going research and technical assistance projects.

• Planning and Budget Committee: Budget spending plan for fiscal year 2002; fiscal year 2003; and out-of-town meetings.

• Executive Committee: Executive Director's report; and nominating committee.

Closed Meeting

• Ad Hoc Committee on Public Rights-of-Way.

• Committee of the Whole; Recreation Facilities.

• Ad Hoc Committee on Passenger Vessels.

All meetings are accessible to persons with disabilities. Sign language interpreters and an assistive listening system are available at all meetings. Persons attending Board meetings are requested to refrain from using perfume, cologne, and other fragrances for the comfort of other participants.

David M. Capozzi,
Director, Office of Technical and Information Services.

[FR Doc. 01-32235 Filed 12-31-01; 8:45 am]

BILLING CODE 8150-01-P